DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “The Agency for Health Care Research and Quality (AHRQ) Health Care Innovations Exchange Innovator Interview and Innovator E-mail Submission Guidelines.” In accordance with the Paperwork Reduction Act, 44 U.S.C. 3501-3520, AHRQ invites the public to comment on this proposed information collection.

DATES: Comments on this notice must be received by January 3, 2011.

ADDRESSES: Written comments should be submitted to: Doris Lefkowitz, Reports Clearance Officer, AHRQ, by e-mail at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@AHRQ.hhs.gov.

SUPPLEMENTARY INFORMATION:

Proposed Project

The Agency for Healthcare Research and Quality (AHRQ) Health Care Innovations Exchange Innovator Interview and Innovator E-mail Submission Guidelines

This request for Office of Management and Budget (OMB) review is for renewal of the existing collection that is currently approved under OMB Control No. 0935-0147, AHRQ Health Care Innovations Exchange Innovator Interview and AHRQ Health Care Innovations Exchange Innovator E-mail Submission Guidelines, which expires on March 31, 2011.

The Health Care Innovations Exchange provides a national-level information hub to foster the implementation and adaptation of innovative strategies that improve health care quality and reduce disparities in the care received by different populations. The Innovations Exchange's target audiences, broadly defined, are current and potential change agents in the U.S. health care system, including clinicians (e.g., physicians, nurses, and other providers), health system administrators, health plan managers, health service purchasers, regulators, and policymakers from relevant Federal and state agencies.

To develop the target of 150 profiles per year, a purposively selected group of approximately 167 health care innovations will be selected annually for potential consideration. These 167 innovations will be selected to ensure that innovations included in the Innovations Exchange cover a broad range of health care settings, care processes, priority populations, and clinical conditions.

The goals of the Health Care Innovations Exchange are to:

(1) Identify health care service delivery innovations and provide a national level repository of searchable innovations and Quality Tools that enables health care decisionmakers to quickly identify ideas and tools that meet their needs. These innovations come from many care settings including inpatient facilities, outpatient facilities, long term care organizations, health plans and community care settings. They also represent many patient populations, disease conditions, and processes of care such as preventive, acute, and chronic care;

(2) Foster the implementation and adoption of health care service delivery innovations that improve health care quality and reduce disparities in the care received by different populations.

This data collection is being conducted by AHRQ through its contractor, Westat, pursuant to AHRQ's statutory authority to conduct and support research on healthcare and on systems for the delivery of such care, including activities (1) With respect to the quality, effectiveness, efficiency, appropriateness and value of healthcare services, 42 U.S.C. 299a(a), and (2) to promote innovation in evidence-based health care practices and technologies. 42 U.S.C. 299b-5.

Method of Collection

To achieve the first goal of the Innovations Exchange the following data collections will be implemented:

(1) E-mail submission—Based on experience during the current approval period, approximately 10% of the 167 health care innovations considered for inclusion annually, and their associated innovators, will submit their innovations via e-mail to the Innovations Exchange without prior contact (about 17 annually). Innovators who submit their innovations for possible publication through the e-mail submission guidelines process will be considered as will innovations identified by project staff through an array of sources that include: published literature, conference proceedings, news items, list servs, Federal agencies and other government programs and resources, health care foundations, and health care associations.

(2) Health care innovator interview—To collect and verify the information required for the innovation profiles, health care innovators will be interviewed by telephone about the following aspects of their innovation: health care problem addressed, impetus for the innovation, goals of the innovation, description of the innovation, sources of funding, evaluation results for the innovation, setting for the innovation, history of planning and implementation for the innovation, and lessons learned concerning the implementation of the innovation. Interviews will be conducted with innovators identified by project staff and those identified through e-mail submission.

(3) Annual follow-up reviews—After the innovation profile is published, on a yearly basis, innovators will be contacted by e-mail to review and update their profiles.

The second goal of the Innovations Exchange is achieved by serving as a “one-stop shop” that provides:

(1) Digested and reliable information about innovations in an adoption-friendly format;

(2) Learning resources including expert commentaries, articles, adoption guides and educational Web events, and

(3) Networking opportunities that allow innovators and potential adopters to share information about implementation strategies and lessons learned, including in-person meetings, interactive online events, and the ability for users to post comments and engage in discussions on specific innovations.

The ultimate decision to publish a detailed profile of an innovation depends on several factors, including an evaluation by AHRQ, AHRQ's priorities, and the number of similar ideas in the Innovations Exchange. AHRQ's priorities include identifying and highlighting innovations (1) that will help reduce disparities in health care and health status; (2) that will have significant impact on the overall value of health care; (3) where the innovators have a strong interest in participating; and (4) that have been supported by AHRQ.

Estimated Annual Respondent Burden

Exhibit 1 shows the estimated annualized burden hours for the respondents' time to participate in this project. Approximately 167 innovators will participate in the initial data collection each year with 150 of those being added to the Innovations Exchange. About 17 innovations will be submitted by e-mail, which requires 30 minutes. All 167 potential innovations will participate in the health care innovator interview, including the 17 submitted via e-mail. The interview will last about 60 minutes and an additional 15 minutes is typically required for the innovator to review and comment on the written profile.

Based on experience, approximately 10% of the candidate innovations either will not meet the inclusion criteria or their innovators will decide not to continue their participation, after the interview. Therefore, about 90% (150) of the 167 candidate innovations will move into the publication stage each year. Annual follow-up reviews will be conducted with all innovations that have been in the Innovations Exchange for at least one full year. With an expected total of 575 innovations in the Exchange by the end of the current approval period, and an additional 450 to be added over the course of the next 3 year approval period, an average of 725 reviews will be conducted annually and will require about 30 minutes to complete. The total annualized burden is estimated to be 581 hours.

Exhibit 2 shows the estimated annualized cost burden associated with the respondents' time to participate in this research. The total annualized cost burden is estimated to be $19,754.

Exhibit 1: Estimated Annualized Burden Hours
Form name | Number of respondents | Number of responses per respondent | Hours per response | Total burden hours
E-mail submission | 17 | 1 | 30/60 | 9
Health care innovator interview | 167 | 1 | 75/60 | 209
Annual follow-up reviews | 725 | 1 | 30/60 | 363
Total | 909 |  |  | 581

Exhibit 2: Estimated Annualized Cost Burden
Form name | Number of respondents | Total burden hours | Average hourly wage rate* | Total cost burden
E-mail submission | 17 | 9 | $34 | $306
Health care innovator interview | 167 | 209 | 34 | 7,106
Annual follow-up reviews | 725 | 363 | 34 | 12,342
Total | 909 | 581 |  | 19,754
* Based upon the mean hourly wage for healthcare practitioners and technical occupations, Bureau of Labor Statistics, U.S. Department of Labor, Occupational Employment and Wages, May 2009.

Estimated Annual Costs to the Federal Government

Exhibit 3 shows the estimated annualized costs to the Government. The total cost to the Government of this data collection is approximately $592,922 over three years (on average, $197,642 per year). These costs cover data collection efforts for contacting candidate health care innovators, conducting innovator interviews, and contacting innovators annually to update profiles.

Exhibit 3: Estimated Total and Annualized Cost
Cost Component | Total Cost | Annualized Cost
Data Collection Activities | $82,260 | $27,420
Website Maintenance | 64,172 | 21,391
Project Management | 27,096 | 9,032
Overhead | 419,395 | 139,799
Total | 592,922 | 197,642

Request for Comments

In accordance with the above-cited Paperwork Reduction Act legislation, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: October 25, 2010.
Carolyn M. Clancy,
Director.

[FR Doc. 2010-27570 Filed 11-1-10; 8:45 am]

BILLING CODE 4160-90-M